ENVIRONMENTAL PROTECTION AGENCY

40 CFR Part 52

[EPA-R10-OAR-2019-0710, FRL-10007-31-Region 10]

Approval and Promulgation of Implementation Plans; Washington; Puget Sound Clean Air Agency, Regulation I

AGENCY: Environmental Protection Agency (EPA).

ACTION: Final rule.

SUMMARY: The Environmental Protection Agency (EPA) is approving revisions to the Washington State Implementation Plan (SIP) that were submitted by the Washington Department of Ecology (Ecology) in coordination with the Puget Sound Clean Air Agency (PSCAA). This action updates certain PSCAA regulations currently in the SIP, removes obsolete regulations, and approves a subset of updated Ecology regulations to apply in PSCAA's jurisdiction.

DATES: This final rule is effective May 22, 2020.

ADDRESSES: The EPA has established a docket for this action under Docket ID No. EPA-R10-OAR-2019-0710. All documents in the docket are listed on the https://www.regulations.gov website. Although listed in the index, some information is not publicly available, e.g., Confidential Business Information or other information the disclosure of which is restricted by statute. Certain other material, such as copyrighted material, is not placed on the internet and will be publicly available only in hard copy form. Publicly available docket materials are available at https://www.regulations.gov, or please contact the person listed in the FOR FURTHER INFORMATION CONTACT section for additional availability information.

FOR FURTHER INFORMATION CONTACT: Jeff Hunt, EPA Region 10, 1200 Sixth Avenue—Suite 155, Seattle, WA 98101, at (206) 553-0256, or hunt.jeff@epa.gov.

SUPPLEMENTARY INFORMATION: Throughout this document, wherever “we,” “us,” or “our” is used, it means the EPA.

I. Background

On January 28, 2020, we proposed to approve updates to certain PSCAA regulations currently in the SIP, remove obsolete regulations, and approve a subset of updated Ecology regulations to apply in PSCAA's jurisdiction (85 FR 4921). The reasons for our proposed approval were stated in the proposed rule and will not be re-stated here.

II. Response to Comments

The public comment period for our proposed action ended on February 27, 2020. We received two comments. Both comments are included in the docket for this action. The first comment focused on permitting requirements under the Prevention of Significant Deterioration (PSD) program operated in Washington State by Ecology and the Energy Facility Site Evaluation Council (EFSEC). Saliently, the EPA did not propose any changes to the PSD regulations in Washington Administrative Code (WAC) 173-400-700 through 173-400-750. Further, as discussed in the proposal for this action, PSCAA does not issue PSD permits in Washington State. For the above reasons, we consider the first comment to be outside the scope of this action. The second comment was a generalized critique of the EPA. We do not consider these comments to be germane or relevant to this action and therefore not adverse to this action. The comments lack the required specificity to the proposed SIP revision and the relevant requirements of Clean Air Act (CAA) section 110. Moreover, none of the comments address a specific regulation or provision in question or recommend a different action on the SIP submission from what the EPA proposed. Therefore, we are finalizing our action as proposed.

III. Final Action

A. Regulations Approved and Incorporated by Reference Into the SIP

The EPA is approving and incorporating by reference into the Washington SIP at 40 CFR 52.2470(c)—Table 7—Additional Regulations Approved for the Puget Sound Clean Air Agency (PSCAA) Jurisdiction, the following PSCAA Regulation I sections (effective date):

• 1.01 (11/01/1999), 1.07 (12/01/2018), 3.03(f) (02/01/2012), 3.04 (07/01/2012), 3.25 (11/01/2019), 5.03 (11/01/2016), 5.05 (02/01/2017), 6.01 (05/01/2013), 6.03 (11/01/2015), 6.09 (05/01/2004), 6.10 (09/01/2001), 7.09 (02/01/2017), 9.03 (05/01/2004), 9.04 (05/01/2004), 9.07 (05/19/1994), 9.08 (05/01/2004), 9.09 (06/01/1998), 9.11(a) (04/17/1999), 9.13 (06/09/1988), 9.15 (04/17/1999), 9.16 (12/02/2010), 9.18 (03/02/2012), and 12.03 (11/01/2015).

The EPA is also approving and incorporating by reference PSCAA's adoption by reference of the following Chapter 173-400 WAC provisions submitted for approval (effective date):

• 173-400-030 (12/29/2012), 173-400-081 (04/01/2011), 173-400-110 (12/29/2012), 173-400-111 (07/01/2016), 173-400-112 (12/29/2012), 173-400-113 (12/29/2012), 173-400-117 (12/29/2012), 173-400-171 (07/01/2016), 173-400-200 (02/10/2005), 173-400-560 (12/29/2012), 173-400-800 (4/01/2011), 173-400-810 (07/01/2016), 173-400-820 (12/29/2012), 173-400-830 (07/01/2016), 173-400-840 (07/01/2016), 173-400-850 (07/01/2016), and 173-400-860 (4/01/2011).

Lastly, for Chapter 173-400 WAC provisions not adopted by reference by PSCAA, we are approving the following updates to apply within PSCAA's jurisdiction (effective date):

• 173-400-020 (12/29/2012), 173-400-040 (09/16/2018), 173-400-091 (4/1/2011), 173-400-105 (11/25/2018), 173-400-118 (12/29/2012), 173-400-131 (04/1/2011), 173-400-136 (12/29/2012), 173-400-151 (2/10/2005), and 173-400-175 (2/10/2005).

Please see the amendatory text for more detailed information about the provisions submitted and approved in this action, including local agency corollaries which replace certain Chapter 173-400 WAC provisions and exclusions to our approval.

B. Approved But Not Incorporated by Reference Regulations

In addition to the regulations approved and incorporated by reference above, the EPA reviews and approves state and local clean air agency submissions to ensure they provide adequate enforcement authority and other general authority to implement and enforce the SIP. However, regulations describing such agency enforcement and other general authority are generally not incorporated by reference so as to avoid potential conflict with the EPA's independent authorities. On August 31, 2004, the EPA reviewed and approved Regulation I, sections 3.01, 3.05, 3.09, 3.13, 3.15, 3.17, 3.19, and 3.21 as providing PSCAA adequate enforcement and other general authority for purposes of implementing and enforcing its SIP but did not incorporate these provisions by reference (69 FR 53007). While these provisions remain unchanged since our last review and approval, we are including these sections in 40 CFR 52.2470(e), EPA Approved Nonregulatory Provisions and Quasi-Regulatory Measures, as approved but not incorporated by reference regulatory provisions. Lastly, PSCAA updated Regulation 1, sections 3.07 and 3.11 which we are approving, but not incorporating by reference.

C. Regulations To Remove From the SIP

As discussed in the proposal for this action, we are removing from the SIP Regulation I, sections 5.02, 6.03(b)(10) [formerly 6.03(b)(17)], 6.04, 6.06, 6.07, and 6.08. We are also removing outdated Chapter 173-400 WAC provisions and replacing them with the submitted PSCAA replacement corollaries, including PSCAA's adoption by reference of certain Chapter 173-400 WAC provisions, or the currently approved updates to Chapter 173-400 WAC. Please see 85 FR 10301 (February 24, 2020) for our most recent approval of Chapter 173-400 WAC.

D. Scope of Proposed Action

This revision to the SIP applies specifically to the PSCAA jurisdiction incorporated into the SIP at 40 CFR 52.2470(c)—Table 7. As discussed in our proposal, local air agency jurisdiction in Washington is generally defined on a geographic basis; however, there are exceptions. By statute, PSCAA does not have authority for sources under the jurisdiction of EFSEC. See Revised Code of Washington Chapter 80.50. Under the applicability provisions of WAC 173-405-012, 173-410-012, and 173-415-012, PSCAA also does not have jurisdiction for kraft pulp mills, sulfite pulping mills, and primary aluminum plants. For these sources, Ecology retains statewide, direct jurisdiction. Ecology and EFSEC also retain statewide, direct jurisdiction for issuing PSD permits. Therefore, the EPA is not approving into 40 CFR 52.2470(c)—Table 7 those provisions of Chapter 173-400 WAC related to the PSD program. Specifically, these provisions are WAC 173-400-116 and WAC 173-400-700 through 173-400-750, which the EPA has already approved as applying state-wide under 40 CFR 52.2470(c)—Tables 2 and 3.

Also, as described in our proposal for this action, jurisdiction to implement the visibility permitting program contained in WAC 173-400-117 varies depending on the situation. Ecology and EFSEC retain authority to implement WAC 173-400-117 as it relates to PSD permits. However, for facilities subject to major nonattainment new source review (NSR) under the applicability provisions of WAC 173-400-800, incorporated by reference in Regulation I, we are approving PSCAA's implementation of those parts of WAC 173-400-117 as they relate to major nonattainment NSR permits. Therefore, we are modifying the visibility protection Federal Implementation Plan contained in 40 CFR 52.2498 to reflect the approval of WAC 173-400-117 as it applies to implementation of the major nonattainment NSR program in PSCAA's jurisdiction.

Lastly, this SIP revision is not approved to apply on any Indian reservation land in Washington except as specifically noted below and is also not approved to apply in any other area where the EPA or an Indian tribe has demonstrated that a tribe has jurisdiction. In those areas of Indian country, the rule does not have tribal implications and will not impose substantial direct costs on tribal governments or preempt tribal law as specified by Executive Order 13175 (65 FR 67249, November 9, 2000). Washington's SIP is approved to apply on non-trust land within the exterior boundaries of the Puyallup Indian Reservation, also known as the 1873 Survey Area. Under the Puyallup Tribe of Indians Settlement Act of 1989, 25 U.S.C. 1773, Congress explicitly provided state and local agencies in Washington authority over activities on non-trust lands within the 1873 Survey Area.

IV. Incorporation by Reference

In this rule, the EPA is finalizing regulatory text that includes incorporation by reference. In accordance with requirements of 1 CFR 51.5, we are finalizing the incorporation by reference as described in the amendments to 40 CFR part 52 set forth below. The EPA has made, and will continue to make, these materials generally available through https://www.regulations.gov and at the EPA Region 10 Office (please contact the person identified in the FOR FURTHER INFORMATION CONTACT section of this preamble for more information). Therefore, these materials have been approved by the EPA for inclusion in the SIP, have been incorporated by reference by the EPA into that plan, are fully federally-enforceable under sections 110 and 113 of the CAA as of the effective date of the final rulemaking of the EPA's approval, and will be incorporated by reference in the next update to the SIP compilation.¹

¹ 62 FR 27968 (May 22, 1997).

V. Statutory and Executive Order Review

Under the CAA, the Administrator is required to approve a SIP submission that complies with the provisions of the CAA and applicable federal regulations. 42 U.S.C. 7410(k); 40 CFR 52.02(a). Thus, in reviewing SIP submissions, the EPA's role is to approve state choices, provided that they meet the criteria of the CAA. Accordingly, this action merely approves state law as meeting federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because it does not address technical standards; and

• Does not provide the EPA with the discretionary authority to address, as appropriate, disproportionate human health or environmental effects, using practicable and legally permissible methods, under Executive Order 12898 (59 FR 7629, February 16, 1994).

The SIP is not approved to apply on any Indian reservation land in Washington except as specifically noted below and is also not approved to apply in any other area where the EPA or an Indian tribe has demonstrated that a tribe has jurisdiction. In those areas of Indian country, the rule does not have tribal implications and will not impose substantial direct costs on tribal governments or preempt tribal law as specified by Executive Order 13175 (65 FR 67249, November 9, 2000). Washington's SIP is approved to apply on non-trust land within the exterior boundaries of the Puyallup Indian Reservation, also known as the 1873 Survey Area. Under the Puyallup Tribe of Indians Settlement Act of 1989, 25 U.S.C. 1773, Congress explicitly provided State and local agencies in Washington authority over activities on non-trust lands within the 1873 Survey Area. Consistent with EPA policy, the EPA provided a consultation opportunity to the Puyallup Tribe in a letter dated March 21, 2018.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by June 22, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: April 10, 2020.
Christopher Hladick,
Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart WW—Washington

2. Amend § 52.2470 by revising Table 7 of paragraph (c) and Table 1 of paragraph (e), to read as follows:

§ 52.2470 Identification of plan.

* * * * *

(c) * * *

Table 7—Additional Regulations Approved for the Puget Sound Clean Air Agency (PSCAA) Jurisdiction
[Applicable in King, Kitsap, Pierce and Snohomish counties, excluding facilities subject to Energy Facilities Site Evaluation Council (EFSEC) jurisdiction; facilities subject to the Washington Department of Ecology's direct jurisdiction under Chapters 173-405, 173-410, and 173-415 Washington Administrative Code (WAC); Indian reservations (excluding non-trust land within the exterior boundaries of the Puyallup Indian Reservation); any other area where the EPA or an Indian tribe has demonstrated that a tribe has jurisdiction; and the Prevention of Significant Deterioration (PSD) permitting of facilities subject to the applicability sections of WAC 173-400-700.]
State/local citation | Title/subject | State/local effective date | EPA approval date | Explanations
Puget Sound Clean Air Agency Regulations
Regulation I—Article 1: Policy, Short Title, and Definitions
1.01 | Policy | 11/01/99 | 4/22/20, [Insert Federal Register citation] | Replaces WAC 173-400-010.
1.03 | Name of Agency | 11/01/99 | 8/31/04, 69 FR 53007
1.05 | Short Title | 11/01/99 | 8/31/04, 69 FR 53007
1.07 | Definitions | 12/01/18 | 4/22/20, [Insert Federal Register citation] | Except the definition “toxic air pollutant (TAP) or toxic air contaminant.”
Regulation I—Article 3: General Provisions
3.03(f) | General Regulatory Orders | 02/01/12 | 4/22/20, [Insert Federal Register citation]
3.04 | Reasonably Available Control Technology | 07/01/12 | 4/22/20, [Insert Federal Register citation] | Except 3.04(e). Replaces WAC 173-400-040(1)(c).
3.06 | Credible Evidence | 11/14/98 | 8/31/04, 69 FR 53007
3.25 | Federal Regulation Reference Date | 11/01/19 | 4/22/20, [Insert Federal Register citation] | Replaces WAC 173-400-025.
Regulation I—Article 5: Registration
5.03 | Applicability of Registration Program | 11/01/16 | 4/22/20, [Insert Federal Register citation] | Except 5.03(a)(8)(Q) and 5.03(b)(5).
5.05 | Registration Requirements | 02/01/17 | 4/22/20, [Insert Federal Register citation] | Except 5.05(b)(1) and (2).
Regulation I—Article 6: New Source Review
6.01 | Components of New Source Review Program | 8/01/18 | 4/22/20, [Insert Federal Register citation] | Except the parenthetical in 6.01(b) which states “as delegated by agreement with the US Environmental Protection Agency, Region 10.” See subheading below for revised Chapter 173-400 WAC provisions incorporated by reference.
6.03 | Notice of Construction | 11/01/15 | 4/22/20, [Insert Federal Register citation] | Except 6.03(b)(10). Section 6.03 replaces WAC 173-400-110, except WAC 173-400-110(1)(c)(i) and (1)(d) which are incorporated by reference.
6.09 | Notice of Completion | 05/01/04 | 4/22/20, [Insert Federal Register citation]
6.10 | Work Done without an Approval | 09/01/01 | 4/22/20, [Insert Federal Register citation]
Regulation I—Article 7: Operating Permits
7.09 | General Reporting Requirements for Operating Permits | 02/01/17 | 4/22/20, [Insert Federal Register citation] | Excluding toxic air pollutants.
Regulation I—Article 8: Outdoor Burning
8.04 | General Conditions for Outdoor Burning | 01/01/01 | 8/31/04, 69 FR 53007
8.05 | Agricultural Burning | 01/01/01 | 8/31/04, 69 FR 53007
8.06 | Outdoor Burning Ozone Contingency Measure | 01/23/03 | 8/05/04, 69 FR 47364
8.09 | Description of King County No-Burn Area | 01/01/01 | 8/31/04, 69 FR 53007
8.10 | Description of Pierce County No-Burn Area | 01/01/01 | 8/31/04, 69 FR 53007
8.11 | Description of Snohomish County No-Burn Area | 01/01/01 | 8/31/04, 69 FR 53007
8.12 | Description of Kitsap County No-Burn Area | 11/30/02 | 8/31/04, 69 FR 53007
Regulation I—Article 9: Emission Standards
9.03 | Emission of Air Contaminant: Visual Standard | 05/01/04 | 4/22/20, [Insert Federal Register citation] | Except 9.03(e). Replaces WAC 173-400-040(2).
9.04 | Opacity Standards for Equipment with Continuous Opacity Monitoring Systems | 05/01/04 | 4/22/20, [Insert Federal Register citation] | Except 9.04(d)(2) and 9.04(f).
9.05 | Refuse Burning | 1/13/94 | 06/29/95, 60 FR 33734
9.07 | Sulfur Dioxide Emission Standard | 05/19/94 | 4/22/20, [Insert Federal Register citation] | Replaces WAC 173-400-040(7).
9.08 | Fuel Oil Standards | 05/01/04 | 4/22/20, [Insert Federal Register citation] | Approved only as it applies to the regulation of criteria pollutants.
9.09 | Particulate Matter Emission Standards | 06/01/98 | 4/22/20, [Insert Federal Register citation] | Replaces WAC 173-400-050(1)&(3) and 173-400-060.
9.11(a) | Emission of Air Contaminant: Detriment to Person or Property | 04/17/99 | 4/22/20, [Insert Federal Register citation] | Replaces WAC 173-400-040(6).
9.13 | Emission of Air Contaminant: Concealment and Masking Restricted | 06/09/88 | 4/22/20, [Insert Federal Register citation] | Replaces WAC 173-400-040(8).
9.15 | Fugitive Dust Control Measures | 04/17/99 | 4/22/20, [Insert Federal Register citation] | Replaces WAC 173-400-040(9)(a).
9.16 | Spray-Coating Operations | 12/02/10 | 4/22/20, [Insert Federal Register citation]
9.18 | Crushing Operations | 03/02/12 | 4/22/20, [Insert Federal Register citation]
9.20 | Maintenance of Equipment | 6/9/88 | 08/29/94, 59 FR 44324
Regulation I—Article 12: Standards of Performance for Continuous Emission Monitoring Systems
12.01 | Applicability | 06/01/98 | 8/31/04, 69 FR 53007
12.03 | Continuous Emission Monitoring Systems | 11/01/15 | 4/22/20, [Insert Federal Register citation] | Replaces WAC 173-400-105(7).
Regulation I—Article 13: Solid Fuel Burning Device Standards
13.01 | Policy and Purpose | 12/01/12 | 5/29/13, 78 FR 32131
13.02 | Definitions | 12/01/12 | 5/29/13, 78 FR 32131
13.03 | Opacity Standards | 12/01/12 | 5/29/13, 78 FR 32131
13.04 | Prohibited Fuel Types | 12/01/12 | 5/29/13, 78 FR 32131
13.05 | Curtailment | 12/01/12 | 5/29/13, 78 FR 32131
13.06 | Emission Performance Standards | 12/01/12 | 5/29/13, 78 FR 32131
13.07 | Contingency Plan | 12/01/12 | 5/29/13, 78 FR 32131
Regulation II—Article 1: Purpose, Policy, Short Title, and Definitions
1.01 | Purpose | 11/01/99 | 08/31/04, 69 FR 53007
1.02 | Policy | 11/01/99 | 08/31/04, 69 FR 53007
1.03 | Short Title | 11/01/99 | 08/31/04, 69 FR 53007
1.04 | General Definitions | 12/11/80 | 02/28/83, 48 FR 8273
1.05 | Special Definitions | 9/1/03 | 09/17/13, 78 FR 57073
Regulation II—Article 2: Gasoline Marketing Emission Standards
2.01 | Definitions | 08/13/99 | 08/31/04, 69 FR 53007
2.03 | Petroleum Refineries | 07/15/91 | 08/29/94, 59 FR 44324
2.05 | Gasoline Loading Terminals | 01/13/94 | 06/29/95, 60 FR 33734
2.06 | Bulk Gasoline Plants | 07/15/91 | 08/29/94, 59 FR 44324
2.07 | Gasoline Stations | 01/10/00 | 08/31/04, 69 FR 53007
2.08 | Gasoline Transport Tanks | 08/13/99 | 08/31/04, 69 FR 53007
2.09 | Oxygenated Gasoline Carbon Monoxide Contingency Measure and Fee Schedule | 01/23/03 | 08/05/04, 69 FR 47365
2.10 | Gasoline Station Ozone Contingency Measure | 01/23/03 | 08/05/04, 69 FR 47365
Regulation II—Article 3: Miscellaneous Volatile Organic Compound Emission Standards
3.01 | Cutback Asphalt Paving | 7/15/91 | 08/29/94, 59 FR 44324
3.02 | Volatile Organic Compound Storage Tanks | 8/13/99 | 08/31/04, 69 FR 53007
3.03 | Can and Paper Coating Operations | 3/17/94 | 06/29/95, 60 FR 33734
3.04 | Motor Vehicle and Mobile Equipment Coating Operations | 9/1/03 | 09/17/13, 78 FR 57073
3.05 | Graphic Arts Systems | 1/13/94 | 06/29/95, 60 FR 33734
3.08 | Polyester, Vinylester, Gelcoat, and Resin Operations | 1/13/94 | 06/29/95, 60 FR 33734
3.09 | Aerospace Component Coating Operations | 1/13/94 | 6/29/95, 60 FR 33734
Washington Administrative Code, Chapter 173-400 Regulations Incorporated by Reference in Regulation I, Section 6.01
173-400-030 | Definitions | 12/29/12 | 4/22/20, [Insert Federal Register citation] | Except: 173-400-030(91).
173-400-081 | Startup and Shutdown | 04/01/11 | 4/22/20, [Insert Federal Register citation]
173-400-110 | New Source Review (NSR) for Sources and Portable Sources | 12/29/12 | 4/22/20, [Insert Federal Register citation] | 173-400-110(1)(c)(i) and 173-400-110(1)(d) only.
173-400-111 | Processing Notice of Construction Applications for Sources, Stationary Sources and Portable Sources | 07/01/16 | 4/22/20, [Insert Federal Register citation] | Except: 173-400-111(3)(h);—The part of 173-400-111(8)(a)(v) that says, “and 173-460-040,”; 173-400-111(9).
173-400-112 | Requirements for New Sources in Nonattainment Areas | 12/29/12 | 4/22/20, [Insert Federal Register citation]
173-400-113 | Requirements for New Sources in Attainment or Unclassifiable Areas | 12/29/12 | 4/22/20, [Insert Federal Register citation] | Except: 173-400-113(3), second sentence.
173-400-117 | Special Protection Requirements for Federal Class I Areas | 12/29/12 | 4/22/20, [Insert Federal Register citation]
173-400-171 | Public Notice and Opportunity for Public Comment | 07/01/16 | 4/22/20, [Insert Federal Register citation] | Except: —The part of 173-400-171(3)(b) that says, “or any increase in emissions of a toxic air pollutant above the acceptable source impact level for that toxic air pollutant as regulated under chapter 173-460 WAC”; 173-400-171(12).
173-400-200 | Creditable Stack Height and Dispersion Techniques | 02/10/05 | 4/22/20, [Insert Federal Register citation]
173-400-560 | General Order of Approval | 12/29/12 | 4/22/20, [Insert Federal Register citation] | Except: — The part of 173-400-560(1)(f) that says, “173-460 WAC”.
173-400-800 | Major Stationary Source and Major Modification in a Nonattainment Area | 4/01/11 | 4/22/20, [Insert Federal Register citation] | EPA did not review WAC 173-400-800 through 860 for consistency with the August 24, 2016 PM2.5 implementation rule (81 FR 58010); nor does PSCAA have an obligation to submit rule revisions to address the 2016 PM2.5 implementation rule at this time.
173-400-810 | Major Stationary Source and Major Modification Definitions | 07/01/16 | 4/22/20, [Insert Federal Register citation]
173-400-820 | Determining if a New Stationary Source or Modification to a Stationary Source is Subject to these Requirements | 12/29/12 | 4/22/20, [Insert Federal Register citation]
173-400-830 | Permitting Requirements | 07/01/16 | 4/22/20, [Insert Federal Register citation]
173-400-840 | Emission Offset Requirements | 07/01/16 | 4/22/20, [Insert Federal Register citation]
173-400-850 | Actual Emissions Plantwide Applicability Limitation (PAL) | 07/01/16 | 4/22/20, [Insert Federal Register citation]
173-400-860 | Public Involvement Procedures | 4/01/11 | 4/22/20, [Insert Federal Register citation]
Washington Department of Ecology Regulations
Washington Administrative Code, Chapter 173-400—General Regulations for Air Pollution Sources
173-400-020 | Applicability | 12/29/12 | 4/22/20, [Insert Federal Register citation]
173-400-040 | General Standards for Maximum Emissions | 09/16/18 | 4/22/20, [Insert Federal Register citation] | 173-400-040(1)(a) & (b), 173-400-040(4); and 173-400-040(9)(b) only.
173-400-070 | Emission Standards for Certain Source Categories | 03/22/91 | 06/02/95, 60 FR 28726 | Except (7).
173-400-091 | Voluntary Limits on Emissions | 4/1/11 | 4/22/20, [Insert Federal Register citation] | 9/20/93 version continues to be approved under the authority of CAA Section 112(l) with respect to Section 112 hazardous air pollutants. See 60 FR 28726 (June 2, 1995).
173-400-105 | Records, Monitoring and Reporting | 11/25/18 | 4/22/20, [Insert Federal Register citation] | Except: 173-400-105(7).
173-400-107 | Excess Emissions | 09/20/93 | 06/02/95, 60 FR 28726
173-400-118 | Designation of Class I, II, and III Areas | 12/29/12 | 4/22/20, [Insert Federal Register citation]
173-400-131 | Issuance of Emission Reduction Credits | 04/1/11 | 4/22/20, [Insert Federal Register citation]
173-400-136 | Use of Emission Reduction Credits (ERC) | 12/29/12 | 4/22/20, [Insert Federal Register citation]
173-400-151 | Retrofit Requirements for Visibility Protection | 2/10/05 | 4/22/20, [Insert Federal Register citation]
173-400-161 | Compliance Schedules | 3/22/91 | 06/02/95, 60 FR 28726
173-400-175 | Public Information | 2/10/05 | 4/22/20, [Insert Federal Register citation]
173-400-190 | Requirements for Nonattainment Areas | 3/22/91 | 06/02/95, 60 FR 28726
173-400-205 | Adjustment for Atmospheric Conditions | 3/22/91 | 06/02/95, 60 FR 28726
173-400-210 | Emission Requirements of Prior Jurisdictions | 3/22/91 | 06/02/95, 60 FR 28726

* * * * *

(e) * * *

Table 1—Approved But Not Incorporated by Reference Regulations
State/local citation | Title/subject | State/local effective date | EPA approval date | Explanations
Washington Department of Ecology Regulations
173-400-220 | Requirements for Board Members | 3/22/91 | 06/02/95, 60 FR 28726
173-400-230 | Regulatory Actions | 3/20/93 | 06/02/95, 60 FR 28726
173-400-240 | Criminal Penalties | 3/22/91 | 06/02/95, 60 FR 28726
173-400-250 | Appeals | 9/20/93 | 06/02/95, 60 FR 28726
173-400-260 | Conflict of Interest | 07/01/16 | 10/06/16, 81 FR 69385
173-433-200 | Regulatory Actions and Penalties | 10/18/90 | 01/15/93, 58 FR 4578
Energy Facility Site Evaluation Council Regulations
463-78-135 | Criminal Penalties | 11/11/04 | 05/30/17, 82 FR 24533
463-78-140 | Appeals Procedure | 3/26/06 | 05/30/17, 82 FR 24533 | Except (3) and (4).
463-78-170 | Conflict of Interest | 11/11/04 | 05/30/17, 82 FR 24533
463-78-230 | Regulatory Actions | 11/11/04 | 05/30/17, 82 FR 24533
Benton Clean Air Agency Regulations
2.01 | Powers and Duties of the Benton Clean Air Agency (BCAA) | 12/11/14 | 11/17/15, 80 FR 71695
2.02 | Requirements for Board of Directors Members | 12/11/14 | 11/17/15, 80 FR 71695 | Replaces WAC 173-400-220.
2.03 | Powers and Duties of the Board of Directors | 12/11/14 | 11/17/15, 80 FR 71695
2.04 | Powers and Duties of the Control Officer | 12/11/14 | 11/17/15, 80 FR 71695
2.05 | Severability | 12/11/14 | 11/17/15, 80 FR 71695
2.06 | Confidentiality of Records and Information | 12/11/14 | 11/17/15, 80 FR 71695
Olympic Region Clean Air Agency Regulations
8.1.6 | Penalties | 05/22/10 | 10/03/13, 78 FR 61188
Puget Sound Clean Air Agency Regulations
3.01 | Duties and Powers of the Control Officer | 11/01/99 | 4/22/20, [Insert Federal Register citation]
3.05 | Investigations by the Control Officer | 03/17/94 | 4/22/20, [Insert Federal Register citation]
3.07 | Compliance Tests | 05/01/06 | 4/22/20, [Insert Federal Register citation]
3.09 | Violations—Notice | 09/12/91 | 4/22/20, [Insert Federal Register citation]
3.11 | Civil Penalties | 11/01/19 | 4/22/20, [Insert Federal Register citation]
3.13 | Criminal Penalties | 09/12/91 | 4/22/20, [Insert Federal Register citation]
3.15 | Additional Enforcement | 09/12/91 | 4/22/20, [Insert Federal Register citation]
3.17 | Appeal of Orders | 11/14/98 | 4/22/20, [Insert Federal Register citation]
3.19 | Confidential Information | 09/12/91 | 4/22/20, [Insert Federal Register citation]
3.21 | Separability | 09/12/91 | 4/22/20, [Insert Federal Register citation]
Southwest Clean Air Agency Regulations
400-220 | Requirements for Board Members | 3/18/01 | 04/10/17, 82 FR 17136
400-230 | Regulatory Actions and Civil Penalties | 10/9/16 | 04/10/17, 82 FR 17136
400-240 | Criminal Penalties | 3/18/01 | 04/10/17, 82 FR 17136
400-250 | Appeals | 11/9/03 | 04/10/17, 82 FR 17136
400-260 | Conflict of Interest | 3/18/01 | 04/10/17, 82 FR 17136
400-270 | Confidentiality of Records and Information | 11/9/03 | 04/10/17, 82 FR 17136
400-280 | Powers of Agency | 3/18/01 | 04/10/17, 82 FR 17136
Spokane Regional Clean Air Agency Regulations
8.11 | Regulatory Actions and Penalties | 09/02/14 | 09/28/15, 80 FR 58216

* * * * *

3. Amend § 52.2498 by revising paragraph (a)(1) to read as follows:

§ 52.2498 Visibility protection.

(a) * * *

(1) Sources subject to the jurisdiction of local air authorities (except Benton Clean Air Agency, Puget Sound Clean Air Agency, and Southwest Clean Air Agency);

* * * * *

[FR Doc. 2020-08124 Filed 4-21-20; 8:45 am]

BILLING CODE 6560-50-P